DEPARTMENT OF HEALTH AND HUMAN SERVICES

National Institutes of Health

National Institute of Mental Health; Notice of Meeting

Pursuant to section 10(a) of the Federal Advisory Committee Act, as amended (5 U.S.C. App.), notice is hereby given of a meeting of the Interagency Autism Coordinating Committee (IACC) Subcommittee for Services Research and Policy.

The IACC Subcommittee for Services Research and Policy will be having a webinar/conference call on Tuesday, November 27, 2012. The Subcommittee will discuss and vote on draft Updates for Chapters 5 and 6 of the 2012 IACC Strategic Plan, which include services and lifespan issues. These Updates will describe recent progress that has been made in the autism field as well as any new gap areas in research that have emerged since the previously released 2011 Strategic Plan. The meeting will be open to the public and accessible by webinar and conference call.

Name of Committee: Interagency Autism Coordinating Committee (IACC).

Type of meeting: Subcommittee for Services Research and Policy.

Date: November 27, 2012.

Time: 11:00 a.m. to 2:00 p.m. Eastern Time.

Agenda: The Subcommittee will discuss and vote on 2012 IACC Strategic Plan Updates for Chapters 5 and 6 that will describe recent progress that has been made in the autism field and identify new gap areas in research that have emerged.

Webinar: https://www2.gotomeeting.com/register/949976034.

Conference Call: Dial: 888-390-0854, Access code: 9876377.

Cost: The conference call and webinar is free.

Contact Person: Ms. Lina Perez, Office of Autism Research Coordination, National Institute of Mental Health, NIH, 6001 Executive Boulevard, NSC, Room 6182A, Rockville, MD 20852, Phone: 301-443-6040, Email: IACCPublicInquiries@mail.nih.gov.

Please Note:

The webinar and conference call will be open to the public. Members of the public who participate using the conference call phone number will be able to listen to the meeting but will not be heard. If you experience any technical problems with the conference call, please email iacchelpdesk2012@gmail.com.

If you experience any technical problems with the web presentation tool, please contact GoToWebinar at (800) 263-6317. To access the web presentation tool on the Internet the following computer capabilities are required: (A) Internet Explorer 5.0 or later, Netscape Navigator 6.0 or later or Mozilla Firefox 1.0 or later; (B) Windows® 2000, XP Home, XP Pro, 2003 Server or Vista; (C) Stable 56k, cable modem, ISDN, DSL or better Internet connection; (D) Minimum of Pentium 400 with 256 MB of RAM (Recommended); (E) Java Virtual Machine enabled (Recommended).

Individuals who participate by using this electronic service and who need special assistance such as captioning or other reasonable accommodations should submit a request to the Contact Person listed on this notice at least 5 days prior to the meeting.

This notice is being published less than 15 days prior to the meeting due to the urgent need for the Subcommittee to discuss the update of the IACC Strategic Plan prior to the IACC meeting scheduled for December 18, 2012.

Schedule is subject to change.

Information about the IACC and a registration link for this meeting are available on the Web site: http://www.iacc.hhs.gov.

Dated: November 8, 2012.
Carolyn A. Baum,
Program Analyst, Office of Federal Advisory Committee Policy.

[FR Doc. 2012-27685 Filed 11-14-12; 8:45 am]

BILLING CODE 4140-01-P